FEDERAL COMMUNICATIONS COMMISSION

Information Collections Being Submitted for Review and Approval to the Office of Management and Budget

AGENCY: Federal Communications Commission.

ACTION: Notice and request for comments.

SUMMARY: The Federal Communications Commission (FCC), as part of its continuing effort to reduce paperwork burdens, invites the general public and other Federal agencies to take this opportunity to comment on the following information collection, as required by the Paperwork Reduction Act (PRA) of 1995. An agency may not conduct or sponsor a collection of information unless it displays a currently valid control number. No person shall be subject to any penalty for failing to comply with a collection of information subject to the PRA that does not display a valid control number. Comments are requested concerning (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written comments should be submitted on or before July 29, 2011. If you anticipate that you will be submitting comments, but find it difficult to do so within the period of time allowed by this notice, you should advise the contacts below as soon as possible.

ADDRESSES: Direct all PRA comments to Nicholas A. Fraser, OMB, via fax 202-395-5167, or via e-mail Nicholas_A._Fraser@omb.eop.gov; and to Cathy Williams, FCC, via e-mail PRA@fcc.gov and to Cathy.Williams@fcc.gov. Include in the comments the OMB control number as shown in the SUPPLEMENTARY INFORMATION section below.

FOR FURTHER INFORMATION CONTACT: For additional information or copies of the information collection, contact Cathy Williams at (202) 418-2918. To view a copy of this information collection request (ICR) submitted to OMB: (1) Go to the web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: OMB Control Number: 3060-0819.

Title: Lifeline and Link Up.

Form Number: FCC Form 497.

Type of Review: Revision of a currently approved collection.

Respondents: Business or other for profit and not-for-profit institutions.

Number of Respondents and Responses: 251,400 respondents; 280,450 responses.

Estimated Time per Response: 5 hours.

Frequency of Response: On occasion, monthly, and annual reporting requirements.

Obligation To Respond: Required to obtain or retain benefits.

Total Annual Burden: 61,386 hours.

Annual Cost Burden: N/A.

Privacy Act Impact Assessment: No impact.

Nature and Extent of Confidentiality: The Commission is not requesting that the respondents submit confidential information to the FCC. Respondents may, however, request confidential treatment for information they believe to be confidential under 47 CFR 0.459 of the Commission's rules.

Needs and Uses: This collection is being submitted as a revision to a currently approved collection. The Commission adopted a Report and Order, released June 21, 2011, Lifeline and Link Up Reform and Modernization, Federal-State Joint Board on Universal Service, Lifeline and Link Up, WC Docket Nos. 11-42 and 03-109, CC Docket No. 96-45, Report and Order, FCC 11-97 (rel. June 21, 2011) (Lifeline Duplicates Payment Order), intended to take immediate action to address potential waste, fraud, and abuse in the universal service low income program.

This order takes immediate action to address potential waste in the universal service Lifeline and Link Up program (Lifeline/Link Up or the program) by preventing duplicative program payments for multiple Lifeline-supported services to the same individual. To ensure prompt action to eliminate duplicative Lifeline support, we adopt a final rule clarifying that qualifying low-income consumers may receive no more than a single Lifeline benefit. We also require eligible telecommunications carriers (ETCs) upon notification from the Universal Service Administrative Company (USAC) to de-enroll subscribers that are receiving multiple benefits in violation of that rule. Further, we direct the Commission's Wireline Competition Bureau to send a letter to USAC to implement an administrative process to detect and resolve duplicate claims.

On March 4, 2011, the Commission released a Notice of Proposed Rulemaking to reform and modernize the Lifeline/Link Up program. In the 2011 Lifeline and Link Up NPRM, the Commission underscored its commitment to eliminating waste, fraud, and abuse in Lifeline/Link Up and presented a comprehensive set of proposals to better target support to needy consumers and maximize the number of Americans with access to modern communications services. In the NPRM, we explained that, while we are considering broader reforms to the program, it may be necessary for the Commission to take action to address immediately the harm done to the Universal Service Fund by duplicative claims for Lifeline support. Thus, the duplicate resolution process the Commission directs USAC to implement is an interim measure that will be in place while the Commission considers a more comprehensive resolution of this issue and other issues raised in the 2011 Lifeline and Link Up NPRM.

The Commission plans to submit additional revisions to OMB collection 3060-0819 at a later date seeking approval to collect additional information as stated in the NPRM, pending the outcome of a PIA and SORN to further prevent waste, fraud and abuse of the Lifeline Link Up support mechanism.

Federal Communications Commission.
Marlene H. Dortch,
Secretary.

[FR Doc. 2011-16313 Filed 6-28-11; 8:45 am]

BILLING CODE 6712-01-P